DEPARTMENT OF COMMERCE

Submission for OMB Review; Comment Request

The Department of Commerce will submit to the Office of Management and Budget (OMB) for clearance the following proposal for collection of information under the provisions of the Paperwork Reduction Act.

Agency: U.S. Census Bureau.

Title: Manufacturers' Unfilled Orders Survey.

OMB Control Number: 0607-0561.

Form Number(s): MA-3000.

Type of Request: Extension of a currently approved collection.

Number of Respondents: 6,000.

Average Hours per Response: 30 minutes.

Burden Hours: 3,000.

Needs and Uses: The data collected in the Manufacturers' Unfilled Orders (M3UFO) Survey will be used to benchmark the new and unfilled orders information published in the monthly Manufacturers' Shipments, Inventories, and Orders (M3) Survey. The M3 Survey collects monthly data on the value of shipments, inventories, and new and unfilled orders from manufacturing companies. The data are used by the Bureau of Economic Analysis, the Council of Economic Advisers, the Federal Reserve Board, the Conference Board, and members of the business community such as trade associations and the media to analyze business conditions in the manufacturing sector.

The associated monthly M3 Survey estimates are based on a panel of approximately 5,000 reporting units that represent approximately 3,100 companies and provide an indication of month-to-month change for the Manufacturing Sector. These reporting units may be divisions of diversified large companies, large homogenous companies, or single-unit manufacturers. The M3 estimates are periodically benchmarked to comprehensive data on the manufacturing sector from the Annual Survey of Manufactures (ASM), the Economic Census (shipments and inventories) and the M3UFO Survey, which is the subject of this notice. Unfilled orders data are not collected in the ASM or the Economic Census. To obtain more accurate M3 estimates of unfilled orders, which are also used in deriving M3 estimates of new orders, we conduct the M3UFO Survey annually to be used as the source for benchmarking M3 unfilled orders data. Industries that maintain unfilled orders cannot fulfill the order in the same month in which the order is received. This is not true for each industry, and occurs mainly in industries where production takes longer than one month. In order to reduce burden from our respondents, the M3UFO data are used to determine which North American Industry Classification System (NAICS) industries continue to maintain unfilled orders. We then utilize that information to only request unfilled orders on the monthly M3 survey from the NAICS industries that actually have unfilled orders which cannot be completed within the same month that the order was placed.

There are no changes to the MA-3000 form, which is used to conduct the M3UFO survey.

The Census Bureau will use mail out or mail back survey forms to collect the data with online reporting encouraged. Online response for the survey is typically 70 percent. Companies are asked to respond to the survey within 30 days of receipt. The Census Bureau mails letters encouraging participation to companies that have not responded within 30 days and later uses telephone follow-up to seek response from delinquent companies.

Affected Public: Businesses or other for-profit.

Frequency: Annually.

Respondent's Obligation: Mandatory.

Legal Authority: Title 13 U.S.C., Sections 131 and 182.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-15816 Filed 7-23-18; 8:45 am]

BILLING CODE 3510-07-P